DEPARTMENT OF THE INTERIOR

Bureau of Land Management

[LLCA930000. L19200000.ET0000 LROROB1109000; CACA 016422]

Notice of Legal Descriptions for the El Centro Training Range Complex, California

AGENCY: Bureau of Land Management, Interior.

ACTION: Notice of legal land descriptions.

SUMMARY: This notice provides official publication of the legal land descriptions for the Department of the Navy's El Centro Training Range Complex (ECTRC) withdrawal created by the National Defense Authorization Act (NDAA) for Fiscal Year (FY) 1997.

DATES: The lands described in this notice were withdrawn on September 23, 1996.

ADDRESSES: Maps and copies of the legal descriptions are available through mailed request to:

BLM, California State Office, Public Room, 2800 Cottage Way, W-1928, Sacramento, CA 95825-1886.

BLM, El Centro Field Office, 1661 S 4th Street, El Centro, CA 92243.

Naval Facilities Engineering Command (NAVFAC SW), 1220 Pacific Highway, San Diego, California 92132.

Facilities Management Division Director, Naval Air Facility El Centro, 1 Bennet Road, El Centro, CA 92243-5001.

FOR FURTHER INFORMATION CONTACT: Heather Daniels, Realty Specialist, Bureau of Land Management, California State Office, telephone: 916-978-4674; email: hdaniels@blm.gov. Persons who use a telecommunications device for the deaf (TDD) may call the Federal Relay Service (FRS) at 1-800-877-8339 to contact Ms. Daniels. The FRS is available 24 hours a day, 7 days a week, to leave a message or question. You will receive a reply during normal business hours.

SUPPLEMENTARY INFORMATION: Section 2923 of Public Law 104-201, enacted on September 23, 1996, and known as the NDAA for FY 1997, withdrew lands in the ECTRC for military purposes based on a map dated March 1993. The FY 1997 NDAA required the Secretary of the Interior to publish the official legal description of the lands in the Federal Register as soon as practicable after enactment of the legislation. The withdrawal legal description for the ECTRC is described as follows:

Target 68, BLM Withdrawn Lands

San Bernardino Meridian, California

T. 14 S., R. 17 E.,

Sec. 3, lots 5 and 6, S½NW¼, and S½;

Secs. 4 and 5;

Sec. 6, E½SW¼ and SE¼;

Secs. 7 thru 10, 15, 17, and 18;

Sec. 19, NE¼;

Sec. 20, N½, NE¼SW¼, and N½SE¼;

Sec. 21, N½, N½SW¼, and N½SE¼;

Sec. 22, NW1/4.

The areas described aggregate 7,688.29 acres.

Target 95, BLM Withdrawn Lands

San Bernardino Meridian, California

T. 13 S., R. 16 E.,

Sec. 1, lots 13, 14, 18 thru 23, and 25 thru 28 and S½;

Sec. 2, lots 13 thru 28 and S½;

Sec. 3, lots 15 thru 18 and 22 thru 27, E½SW¼, and SE¼;

Sec. 10, E½NW¼, E½SW¼, and E½;

Secs. 11 and 12;

Sec. 13, N½, SW¼, and N½SE¼;

Sec. 14;

Sec. 15, NE¼, E½NW¼, NE¼SE¼, and E½NW¼SE¼.

T. 13 S., R. 17 E.,

Sec. 6, lot 32;

Sec. 7, lots 3 thru 6, E½NW¼, and E½SW¼;

Sec. 18, lots 3 and 4.

The areas described aggregate 6,074.33 acres.

Target 101, BLM Withdrawn Lands

San Bernardino Meridian, California

T. 13 S., R. 11 E.,

Sec. 34, SW¼ and E½;

Sec. 35.

T. 14 S., R. 11 E.,

Secs. 1, 2, and 3;

Sec. 10, N½;

Sec. 11, N½, N½SW¼, N½SE¼SW¼, and SE¼;

Sec. 12;

Sec. 13, NE¼, NW¼NW¼, N½SW¼NW¼, and E½NW¼;

Sec. 14, NE¼NE¼.

T. 13 S., R. 12 E.,

Sec. 31, lots 5 and 6 and E½SW¼.

T. 14 S., R. 12 E.,

Sec. 6, lots 5 thru 9, SE¼NW¼, and E½SW¼;

Sec. 7, lots 3 thru 6, E½NW¼, E½SW¼, and SE¼;

Sec. 8, S½;

Sec. 9, S½;

Sec. 10, S½;

Sec. 11, SW¼;

Secs. 14, 15, and 17;

Sec. 18, lots 3 and 4, E½NW¼, and E½;

Sec. 19, E½;

Secs. 22 and 23;

Sec. 24, NW¼ and W½SE¼;

Sec. 25, W½NE¼, W½, and W½SE¼;

Secs. 26 and 27;

Sec. 30, NW¼NE¼ and E½NE¼;

Sec. 32, NE¼, NE¼NW¼, and NE¼SE¼;

Sec. 33, N½, N½SW¼, N½S½SW¼, N½SE¼, and N½S½SE¼;

Sec. 34, N½, N½SW¼, N½S½SW¼, N½SE¼, and N½S½SE¼;

Sec. 35, N½, N½SW¼, N½S½SW¼, and NW¼SE¼;

Sec. 36, W½NE¼ and NW¼.

The areas described aggregate 15,216.30 acres.

Target 103, BLM Withdrawn Lands

San Bernardino Meridian, California

T. 15 S., R. 10 E.,

Sec. 1, lots 9 thru 12 and SW¼;

Sec. 2, S½;

Sec. 10, E½NE¼ and E½SE¼;

Secs. 11 thru 14; sec. 15, E½NE¼ and E½SE¼;

Sec. 22, E½NE¼ and E½SE¼;

Secs. 23 and 24;

Sec. 25, N½;

Sec. 26, NE¼.

T. 15 S., R. 11 E.,

Sec. 5, SW¼;

Sec. 6, lots 8 and 9, E½SW¼, and SE¼;

Secs. 7, 8, and 17 thru 20;

Sec. 29, NW¼;

Sec. 30, lots 3 and 4, NE¼, and E½NW¼.

The areas described aggregate 10,269.37 acres.

Parachute Drop Zone, BLM Withdrawn Lands

San Bernardino Meridian, California

T. 15 S., R. 11 E.,

Secs. 10 and 11;

Sec. 12, W½NW¼ and S½;

Secs. 13, 14, and 15;

Sec. 22, NE¼;

Sec. 23, N½, N½SW¼, and N½SE¼;

Sec. 24.

T. 15 S., R. 12 E.,

Sec. 7, lots 3 and 4, E½SW¼, and SE¼;

Sec. 8, S½;

Secs. 17 and 18;

Sec. 19, lots 1 thru 4, W½NE¼, E½NW¼, E½SW¼, W½SE¼, and SE¼SE¼.

The areas described aggregate 7,345.52 acres.

The total area withdrawn describes an aggregate of 46,593.81 acres in Imperial County.

Subject to valid existing rights and except as otherwise provided in the FY 1997 NDAA, the lands are withdrawn from all forms of appropriation under the public land laws, including the mining laws, but not the mineral leasing or geothermal leasing laws or the mineral materials sales laws and reserved for the use by the Secretary of the Navy.

The lands were withdrawn on September 23, 1996.

Danielle Chi,
California Deputy State Director, Division of Natural Resources.

[FR Doc. 2020-09483 Filed 5-4-20; 8:45 am]

BILLING CODE 3810-FF-P